NATIONAL SCIENCE FOUNDATION

Advisory Panel for Economics, Decision and Management Sciences; Notice of Meeting

In accordance with the Federal Advisory Committee Act (Pub. L. 92-463, as amended), the National Science Foundation (NSF) announces the following meetings of the Committee of Visitors for the Advisory Panel for Economics, Decision Risk and Management Sciences and Innovation and Organizational Change (#1760);

1. Date and Time: March 27, 28 and 29, 2000.

Place: National Science Foundation, 4201 Wilson Blvd, Room 970, Arlington, VA 22230.

Contact Person: Dr. Daniel Newlon, Program Director for Economics, National Science Foundation, 4201 Wilson Boulevard, Arlington, VA 22230. Telephone: (703) 306-1753.

Agenda: To review and evaluate Economics proposals as part of the selection process for awards.

2. Date and Time: March 27, 28 and 29, 2000.

Place: National Science Foundation, 4201 Wilson Blvd, Room 970, Arlington, VA 22230.

Contact Person: Dr. Hal Arkes, Program Director for Decision, Risk and Management Sciences (DRMS), National Science Foundation, 4201 Wilson Boulevard, Arlington, VA 22230. Telephone: (703) 306-1757.

Agenda: To review and evaluate DRMS proposals as part of the selection process for awards.

3. Date and Time: March 27, 28 and 29, 2000.

Place: National Science Foundation, 4201 Wilson Blvd, Room 970, Arlington, VA 22230.

Contact Person: Dr. Mariann (Sam) Jelinek, Program Director for Innovation and Organizational Change (IOC), National Science Foundation, 4201 Wilson Boulevard, Suite 995, Arlington, VA 22230. Telephone: (703) 306-1757.

Agenda: To review and evaluate IOC proposals as part of the selection process for awards.

Type of Meetings: Closed.

Purpose of Meetings: To provide advice and recommendations concerning support for research proposals submitted to NSF for financial support.

Reason for Closing: The proposals being reviewed include information of a proprietary or confidential nature, including technical information; financial data, such as salaries; and personal information concerning individuals associated with the proposals. These matters are exempt under 5 U.S.C. 552b(c), (4) and (6) of the Government in the Sunshine Act.

Dated: March 6, 2000.
Karen J. York,
Committee Management Officer.

[FR Doc. 00-5880 Filed 3-9-00; 8:45 am]

BILLING CODE 7555-01-M